DEPARTMENT OF AGRICULTURE

Agricultural Marketing Service

[Docket Number FV-06-311]

United States Standards for Grades of Cultivated Ginseng

AGENCY: Agricultural Marketing Service, USDA.

ACTION: Notice.

SUMMARY: The Agricultural Marketing Service (AMS), of the Department of Agriculture (USDA), is soliciting comments on the proposed voluntary United States Standards for Grades of Cultivated Ginseng. AMS received a request from the Ginseng Board of Wisconsin (GBW), to develop the standards. The proposed standards would provide a common language for trade and a means of measuring value in the marketing of cultivated ginseng, thus promoting orderly and efficient marketing of ginseng.

DATES: Comments must be received by August 28, 2006.

ADDRESSES: Interested persons are invited to submit written comments to the Standardization Section, Fresh Products Branch, Fruit and Vegetable Programs, Agricultural Marketing Service, U.S. Department of Agriculture, 1400 Independence Ave., SW., Room 1661 South Building, Stop 0240, Washington, DC 20250-0240; Fax (202) 720-8871, e-mail FPB.DocketClerk@usda.gov. Comments should make reference to the dates and page number of this issue of the Federal Register and will be made available for public inspection in the above office during regular business hours.

The proposed United States Standards for Grades of Cultivated Ginseng are available either from the above address or by accessing the AMS, Fresh Products Branch Web site at: http://www.ams.usda.gov/fv/fpbdocketlist.htm.

FOR FURTHER INFORMATION CONTACT: Cheri L. Emery, at the above address or call (202) 720-2185, E-mail Cheri.Emery@usda.gov.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA, AMS, Fruit and Vegetable Programs.

AMS is proposing to establish the voluntary United States Standards for Grades of Cultivated Ginseng using procedures that appear in Part 36, Title 7 of the Code of Federal Regulations (7 CFR part 36).

Background

AMS received a request from the GBW to develop United States Standards for Grades of Cultivated Ginseng. The GBW represents shippers, processors and all the cultivated ginseng growers in Wisconsin. AMS met with members of the GBW on a number of occasions to develop the proposed U.S. Standards for Grades of Cultivated Ginseng. The proposal would establish the following grades, as well as a range of numerical values for each grade: U.S. Premium, U.S. Select, U.S. Medium and U.S. Standard. In addition, proposed basic requirements for all grades, size, sample size, color, wrinkle and a definitions section would be established. The proposal will provide a common language for trade and a means of measuring value in the marketing of cultivated ginseng.

The official grade of a lot of cultivated ginseng covered by the standards will be determined by the procedures set forth in the Regulations Governing Inspection, Certification, and Standards of Fresh Fruits, Vegetables, and Other Products (7 CFR 51.1 to 51.61).

This notice provides for a 60-day comment period for interested parties to comment on changes to the standards.

Authority: 7 U.S.C. 1621-1627.

Dated: June 23, 2006.
Lloyd C. Day,
Administrator, Agricultural Marketing Service.

[FR Doc. 06-5851 Filed 6-27-06; 8:45 am]

BILLING CODE 3410-02-P